DEPARTMENT OF COMMERCE

National Oceanic and Atmospheric Administration

50 CFR Part 622

[Docket No. 0907271173-1137-04]

RIN 0648-AY11

Fisheries of the Caribbean, Gulf of Mexico, and South Atlantic; Snapper-Grouper Fishery Off the Southern Atlantic States; Amendment 17B; Correction

AGENCY: National Marine Fisheries Service (NMFS), National Oceanic and Atmospheric Administration (NOAA), Commerce.

ACTION: Correcting amendments.

SUMMARY: This document contains corrections to the final rule that implemented Amendment 17B to the Fishery Management Plan (FMP) for the Snapper-Grouper Fishery of the South Atlantic Region (Amendment 17B), which was published in the Federal Register on December 30, 2010.

DATES: This correction is effective March 8, 2011.

FOR FURTHER INFORMATION CONTACT: Anik Clemens, 727-824-5305; e-mail: Anik.Clemens@noaa.gov.

SUPPLEMENTARY INFORMATION:

Background

On December 30, 2010, a final rule was published to implement Amendment 17B (75 FR 82280). That final rule established annual catch limits and accountability measures for nine snapper-grouper species in the South Atlantic region. One of these accountability measures prohibits the possession of deep-water snapper-grouper species in or from the South Atlantic exclusive economic zone in depths greater than 240 ft (73 m). After the regulations implementing Amendment 17B became effective on January 31, 2011, it was determined that two of the waypoints defining the 240-ft (73-m) depth contour were in State waters.

Need for Correction

As published, the final rule contains errors in a table of coordinates in the regulatory text. In § 622.35, paragraph (o) contains a table of coordinates for the depth closure implemented in Amendment 17B for deep-water snapper-grouper. Within this table, an incorrect longitudinal coordinate was implemented for point K, and the coordinates for points O and U are within State boundaries. Through this correcting amendment, the longitudinal coordinate for point K will be corrected and the coordinates for points O and U, as published in the final rule implementing Amendment 17B, will be removed and replaced with new boundary coordinates to reflect the State/Federal boundary. These new coordinates and State/Federal boundary lines will be included in the revised depth closure table of coordinates. All other information remains unchanged and will not be repeated in this correction.

Classification

Pursuant to 5 U.S.C. 553(b)(B), the Assistant Administrator for Fisheries, NOAA, finds good cause to waive prior notice and opportunity for additional public comment for this action because any delay of this action would be unnecessary and contrary to the public interest. This correcting amendment includes minor, non-substantive changes to regulatory text to clarify the boundaries of the snapper-grouper depth closure contained in the final rule for Amendment 17B to the FMP. These amendments do not modify, add or remove any rights, privileges or obligations of any individuals. Rather, one of the longitudinal coordinates published in the final rule was incorrect and two of the coordinates published in the final rule occurred in State waters. The new coordinates and State/Federal boundary lines published in this correcting amendment will alleviate unnecessary confusion for South Atlantic snapper-grouper fishermen. There will be no adverse affect on fishing stocks as a result of this amendment. However, by immediately implementing this correcting amendment, fishermen will better be able to plan their fishing trips by incorporating the correct boundary coordinates into their business plans. Because this is a minor technical amendment that will benefit the affected entities, public comment is both unnecessary and contrary to the public interest.

For the reasons stated above, the Assistant Administrator also finds good cause, pursuant to 5 U.S.C. 553(d), to waive the 30-day delay in effective date for this correction amendment. These revisions are minor, non-substantive changes and do not change operating practices in the South Atlantic snapper-grouper fishery. The immediate publication of the correct coordinates will provide fishermen the information they need to plan their fishing trips and alleviate confusion.

Because prior notice and opportunity for public comment are not required for this rule by 5 U.S.C. 553, or any other law, the analytical requirements of the Regulatory Flexibility Act, 5 U.S.C. 601 et seq., are inapplicable.

This correcting amendment is exempt from review under Executive Order 12866.

List of Subjects in 50 CFR Part 622

Fisheries, Fishing, Puerto Rico, Reporting and recordkeeping requirements, Virgin Islands.

Dated: March 2, 2011.
Samuel D. Rauch III,
Deputy Assistant Administrator for Regulatory Programs, National Marine Fisheries Service.

Accordingly, 50 CFR part 622 is corrected by making the following correcting amendments:

PART 622—FISHERIES OF THE CARIBBEAN, GULF, AND SOUTH ATLANTIC

1. The authority citation for part 622 continues to read as follows:

Authority: 16 U.S.C. 1801 et seq.

2. In § 622.35, the table in paragraph (o) is revised to read as follows:

§ 622.35 Atlantic EEZ seasonal and/or area closures.

* * * * *

(o) * * *

Point | North lat. 10 | West long. 10
A | 36°31′01″ | 74°48′10″
B | 35°57′29″ | 74°55′49″
C | 35°30′49″ | 74°49′17″
D | 34°19′41″ | 76°00′21″
E | 33°13′31″ | 77°17′50″
F | 33°05′13″ | 77°49′24″
G | 32°24′03″ | 78°57′03″
H | 31°39′04″ | 79°38′46″
I | 30°27′33″ | 80°11′39″
J | 29°53′21″ | 80°16′01″
K | 29°24′03″ | 80°13′28″
L | 28°19′29″ | 80°00′27″
M | 27°32′05″ | 79°58′49″
N | 26°50′29″ | 79°59′05″
From point N follow the State/Federal boundary to point O |  |
O | 25°43′57″ | 80°04′46″
P | 25°31′03″ | 80°04′55″
Q | 25°13′44″ | 80°09′40″
R | 24°59′09″ | 80°19′51″
S | 24°42′06″ | 80°46′38″
T | 24°33′53″ | 81°10′23″
U | 24°29′10″ | 81°32′27″
From point U follow the State/Federal boundary to point V |  |
V | 24°26′28″ | 81°45′06″
W | 24°25′53″ | 81°47′53″
From point W follow the State/Federal boundary to point X |  |
X | 24°25′32″ | 81°58′38″
Y | 24°25′49″ | 82°11′17″
Z | 24°21′35″ | 82°22′32″
AA | 24°21′29″ | 82°42′33″
BB | 24°25′37″ | 83°00′00″

[FR Doc. 2011-5232 Filed 3-7-11; 8:45 am]

BILLING CODE 3210-22-P